NUCLEAR REGULATORY COMMISSION

[NRC-2011-0045]

Draft Regulatory Guide: Issuance, Availability

AGENCY: Nuclear Regulatory Commission.

ACTION: Notice of Issuance and Availability of Draft Regulatory Guide, DG-7008, “Leakage Tests on Packages for Shipment of Radioactive Materials.”

FOR FURTHER INFORMATION CONTACT: Bernard H. White, U.S. Nuclear Regulatory Commission, Washington, DC 20555-0001, telephone: 301-492-3303 or e-mail; Bernard.White@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the NRC staff uses in evaluating specific problems or postulated accidents, and data that the NRC staff needs in its review of applications for permits and licenses.

The draft regulatory guide (DG), entitled, “Leakage Tests on Packages for Shipment of Radioactive Materials” is temporarily identified by its task number, DG-7008, which should be mentioned in all related correspondence. DG-7008 is proposed Revision 1 of Regulatory Guide 7.4, dated June 1975.

This guide describes an approach that the NRC staff considers acceptable for meeting the containment criteria for Type B packages in Title 10, Section 71.51, “Additional Requirements for Type B Packages,” of the Code of Federal Regulations (10 CFR 71.51). The regulations at 10 CFR 71.51 require licensees to ensure that Type B packages, following tests for normal conditions of transport and hypothetical accident conditions, meet the containment criteria to minimize radioactive contamination and dose rates to the public. The NRC staff developed and published this guidance to help licensees meet these objectives, ensure package integrity, and minimize the distribution of contamination to the environment.

This regulatory guide endorses the methods and procedures developed by the Standards Committee on Packaging and Transportation of Radioactive and Nonnuclear Hazardous Materials, N14, Subcommittee of the American National Standards Institute (ANSI) in ANSI N14.5-1997, “Radioactive Materials—Leakage Tests on Packages for Shipment,” issued 1997, as a process that the NRC staff considers acceptable for meeting the regulatory requirements.

II. Further Information

The NRC staff is soliciting comments on DG-7008. Comments may be accompanied by relevant information or supporting data and should mention DG-7008 in the subject line. Comments submitted in writing or in electronic form will be made available to the public in their entirety through the NRC's Agencywide Documents Access and Management System (ADAMS).

ADDRESSES: You may submit comments by any one of the following methods. Please include Docket ID NRC-2011-0045 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0045. Address questions about NRC dockets to Carol Gallagher (301) 492-3668; e-mail Carol.Gallagher@nrc.gov.

Mail comments to: Cindy K. Bladey, Chief, Rules, Announcements, and Directives Branch (RADB), Office of Administration, Mail Stop: TWB-05-B01M, U.S. Nuclear Regulatory Commission, Washington, DC 20555-0001, or by fax to RADB at 301-492-3446.

You can access publicly available documents related to this notice using the following methods:

NRC's Public Document Room (PDR): The public may examine and have copied for a fee, publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The draft regulatory guide is available electronically under ADAMS Accession Number ML102350572.

FOR FURTHER INFORMATION CONTACT: Bernard H. White, Project Manager, Division of Spent Fuel Storage and Transportation, Office of Nuclear Material Safety and Safeguards, U.S. Nuclear Regulatory Commission, Washington, DC 20555-0001; Telephone: 301-492-3303; e-mail: Bernard.White@nrc.gov.

Comments would be most helpful if received by April 26, 2011. Comments received after that date will be considered if it is practical to do so, but the NRC is able to ensure consideration only for comments received on or before this date. Although a time limit is given, comments and suggestions in connection with items for inclusion in guides currently being developed or improvements in all published guides are encouraged at any time.

Electronic copies of DG-7008 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML102350572. The regulatory analysis may be found in ADAMS under Accession No. ML102350573.

Regulatory guides are not copyrighted, and Commission approval is not required to reproduce them.

Dated at Rockville, Maryland, this 25th day of January, 2011.
For the Nuclear Regulatory Commission.
Thomas H. Boyce,
Chief, Regulatory Guide Development Branch, Division of Engineering, Office of Nuclear Regulatory Research.

[FR Doc. 2011-4558 Filed 2-28-11; 8:45 am]

BILLING CODE 7590-01-P